DEPARTMENT OF TRANSPORTATION

Federal Aviation Administration

[Summary Notice No. PE-2001-32]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029 Office of Rulemaking (ARM-1), Federal Aviation Administration, 800 Independence Avenue, SW., Washington, DC 20591.

This notice is published pursuant to §§ 11.85 and 11.91.

Issued in Washington, D.C., on April 18, 2001.
Gary A. Michel,
Acting Assistant Chief Counsel for Regulations.

Dispositions of Petitions

Docket No.: FAA-2000-8391.

Petitioner: Ed's Flying Service, Inc.

Section of the 14 CFR Affected: 14 CFR 135.143(c)(2).

Description of Relief Sought/Disposition: To permit EFS to operate certain aircraft under part 135 without a TSO-C112 (Mode S) transponder installed in the aircraft. Grant, 04/11/2001, Exemption No. 7494.

Docket No.: FAA-2000-8271.

Petitioner: East Air, Inc.

Section of the 14 CFR Affected: 14 CFR 135.143(c)(2).

Description of Relief Sought/Disposition: To permit East Air, Inc., to operate certain aircraft under part 135 without a TSO-C112 (Mode S) transponder installed in the aircraft. Grant, 04/10/2001, Exemption No. 7493.

Docket No.: FAA-2000-8486.

Petitioner: Hyannis Air Service, Inc. dba Cape Air/Nantucket Airlines.

Section of the 14 CFR Affected: 14 CFR 135.143(c)(2).

Description of Relief Sought/Disposition: To permit HAS to operate certain aircraft under part 135 without a TSO-C112 (Mode S) transponder installed in the aircraft. Grant, 04/10/2001, Exemption No. 7492.

Docket No.: FAA-2000-8527.

Petitioner: Pan Am International Flight Academy, Inc.

Section of the 14 CFR Affected: 14 CFR 91.9(a) and 91.531(a)(1) and (2).

Description of Relief Sought/Disposition: To permit Pan Am and operators of Cessna Citation Model 550, S550, 552, or 560 airplanes to operate those airplanes without a pilot who is designated as second in command. Grant, 04/06/2001, Exemption No. 7487.

Docket No.: FAA-2001-8744 (formerly Docket No. 28858).

Petitioner: Evergreen Air Venture Museum.

Section of the 14 CFR Affected: 14 CFR 91.315, 119.5(g), and 119.21(a).

Description of Relief Sought/Disposition: To permit EAVM to operate its former military Boeing B-17G aircraft, which has a limited category airworthiness certificate, for the purpose of carrying passengers on local flights in return for donations. Grant, 04/10/2001, Exemption No. 6632B.

Docket No.: FAA-2000-8154.

Petitioner: Grand Holdings, Inc. dba Champion Air.

Section of the 14 CFR Affected: 14 CFR 121.623(a) and (d), 121.643, and 121.645(e).

Description of Relief Sought/Disposition: To permit Champion Air to conduct its supplemental operations within the 48 contiguous United States and the District of Columbia using the flight regulations for alternate airports as required by § 121.619 and fuel reserve requirements as required by § 121.639 that are applicable to domestic operations. Grant, 04/10/2001, Exemption No. 7490.

Docket No.: FAA-2000-7991.

Petitioner: American Trans Air, Inc.

Section of the 14 CFR Affected: 14 CFR 121.434(c)(1)(ii).

Description of Relief Sought/Disposition: To allow ATA to substitute a qualified and authorized check airman in place of an FAA inspector to observe a qualifying pilot in command while that PIC is performing prescribed duties during at least one flight leg that includes a takeoff and a landing when completing initial or upgrade training as specified in § 121.424. Grant, 04/10/2001, Exemption No. 7491.

Docket No.: FAA-2000-8151 (formerly Docket No. 28649).

Petitioner: Rolls-Royce Brasil, Ltda.

Section of the 14 CFR Affected: 14 CFR 145.47(b).

Description of Relief Sought/Disposition: To allow Rolls-Royce to use Institute National de Metrology, Normalizão e Qualidade Industrial, Brazil's national standards organization, rather than the calibration standards of the U.S. National Institute of Standards and Technology to test its inspection and test equipment. Grant, 04/06/2001, Exemption No. 7483.

Docket No.: FAA-2000-8426 (formerly Docket No. 25988).

Petitioner: Soloy Corporation.

Section of the 14 CFR Affected: 14 CFR 21.19(b)(1).

Description of Relief Sought/Disposition: To permit Soloy to apply for a supplemental type certificate (STC) for a design change that would convert the Cessna Caravan from a one-engine aircraft to a two-engine aircraft using the STC process. Grant, 04/06/2001, Exemption No. 6888A.

Docket No.: FAA-2001-9141.

Petitioner: Business Aviation Courier.

Section of the 14 CFR Affected: 14 CFR 135.143(c)(2).

Description of Relief Sought/Disposition: To permit BAV to operate certain aircraft under part 135 without a TSO-C112 (Mode S) transponder installed in the aircraft. Grant, 04/09/2001, Exemption No. 7488.

Docket No.: FAA-2000-8062.

Petitioner: The Boeing Company.

Section of the 14 CFR Affected: 14 CFR 25.961(a)(5).

Description of Relief Sought/Disposition: To permit Boeing to use a maximum temperature limitation of 80°F for JP-4 and Jet B fuels on the Boeing Model 747-400/-400F/RB11-524G-T/H-T airplane. Grant, 04/12/2001, Exemption No. 7496.

[FR Doc. 01-10001 Filed 4-20-01; 8:45 am]

BILLING CODE 4910-13-M